DEPARTMENT OF HOUSING AND URBAN DEVELOPMENT

[Docket No. FR-5700-N-28]

Notice of HUD's Fiscal Year (FY) 2013 Notice of Funding Availability (NOFA) for Section 811 Project Rental Assistance Program

AGENCY: Office of the Assistant Secretary for Housing-Federal Housing Commissioner, HUD.

ACTION: Notice of Funding Availability (NOFA) for HUD's Fiscal Year (FY) 2013 Section 811 Supportive Housing for Persons with Disabilities (Section 811) Project Rental Assistance (PRA) Program.

SUMMARY: This notice announces that HUD has posted on http://www.Grants.gov and http://www.HUD.gov a Notice of Funding Availability (NOFA) for HUD's Fiscal Year (FY) 2013 Section 811 Supportive Housing for Persons with Disabilities (Section 811) Project Rental Assistance (PRA) Program.

FOR FURTHER INFORMATION CONTACT: Questions regarding specific program requirements should be directed to Lessie Powell Evans, Office of Housing Assistance and Grant Administration, Department of Housing and Urban Development, 451 Seventh Street SW., Room 6234, Washington, DC 20410 or to PRAapplications@hud.gov. HUD expects to hold an information webcast via satellite or a webinar for potential applicants to learn more about the Program and preparation of an application. For more information about the date and time of this webcast, consult the HUD Web site at www.hud.gov.

SUPPLEMENTARY INFORMATION: Today's Federal Register notice announces that HUD has posted its FY 2013 Section 811 Supportive Housing for Persons with Disabilities (Section 811) Project Rental Assistance (PRA) Program on http://www.Grants.gov and http://portal.hud.gov/hudportal/HUD?src=/program_offices/administration/grants/fundsavail. This NOFA comprises both the (FY) 2013 General Section posted on www.Grants.gov on August 8, 2012, and this program NOFA. This NOFA announces the availability of Section 811 PRA funding for state housing or other appropriate housing agencies to provide project-based rental assistance in the development of supportive housing for extremely low-income persons with disabilities. To be eligible for Section 811 PRA funds, these housing agencies must have a formal partnership with the State health and human service agency and the state agency designated to administer or supervise the administration of the State plan for medical assistance under Title XIX of the Social Security Act (Medicaid) who will be providing appropriate services and supports directly to residents. In many states, this is the same agency, so the NOFA will refer to the “State Health and Human Services/Medicaid Agency”. This Section 811 PRA program is designed to develop and support sustainable partnerships with state housing agencies and State Health and Human Services/Medicaid agencies that will result in long-term strategies to provide permanent affordable rental housing for people with disabilities receiving assistance under Title XIX of the Social Security Act or other individuals with disabilities receiving comparable long-term services and supports in the community. The application deadline date is 11:59:59 p.m. on May 5, 2014. Applications must be received by Grants.gov no later than 11:59:59 p.m. eastern time on the application deadline date. Approximately $100 million is available in FY 2013 and approximately $20 million in FY 2014, totaling $120 million in funding. Additional funding may be available based on carry-over funds from prior years.

Dated: March 4, 2014.
Anne M. Morillon,
Director, Grants Management and Oversight Division, Office of Strategic Planning and Management.

[FR Doc. 2014-05096 Filed 3-7-14; 8:45 am]

BILLING CODE 4210-67-P